MILLENNIUM CHALLENGE CORPORATION

[MCC FR 05-04]

Notice of Quarterly Report

AGENCY: Millennium Challenge Corporation.

ACTION: Notice.

SUMMARY: In accordance with Section 612(b) of the Millennium Challenge Act of 2003 (Pub. L. 108-199, Division D), the Millennium Challenge Corporation is making its first quarterly report available to the public. The following report covers the quarter beginning October 1, 2004 and ending December 31, 2004.

Millennium Challenge Corporation
[Quarterly report for the period October 1, 2004 through December 31, 2004]
| Pending actions | Undisbursed obligations | Expenditures quarter | Expenditures YTD
Programs:
Compacts | $0 | $0 | $0 | $0
Threshold Programs, See (A) Below | 40,000,000 | 0 | 0 | 0
Due Diligence/Monitoring and Evaluation See (B) Below | 745,000 | 144,492 | 144,492 | 144,492
Inspector General |  |  | 360,000 | 360,000
Total | 40,745,000 | 144,492 | 504,492 | 504,492
Memo: Inter-agency transfers (included above)
(A) Threshold Programs: USAID agreement to oversee agreements with Threshold Program countries | 40,000,000
(B) Due Diligence: Department of the Treasury, Office of Technical Assistance (OTA)—Evaluation by OTA of eligible country financial management systems | 250,000
(B) Due Diligence: U.S. Army Corps—Evaluation by Army Corps of Honduran proposal | 200,000

FOR FURTHER INFORMATION CONTACT: Jake Stefanik, Legislative Assistant, Office of Domestic Affairs, at info@mcc.gov or (202) 521-3600.

Dated: March 15, 2005.
Frances C. McNaught,
Vice President, Domestic Relations, Millennium Challenge Corporation.

[FR Doc. 05-5511 Filed 3-18-05; 8:45 am]

BILLING CODE 9210-01-P